DEPARTMENT OF ENERGY

Federal Energy Regulatory Commission

[Docket Nos. CP16-472-000; PF15-33-000]

Northern Natural Gas Company; Notice of Schedule for Environmental Review of the Northern Lights 2017 Expansion Project

On June 25, 2016, Northern Natural Gas Company (Northern) filed an application in Docket No. CP16-472-000 requesting a Certificate of Public Convenience and Necessity pursuant to Section 7(c) of the Natural Gas Act to construct and operate certain natural gas pipeline facilities. The proposed project is known as the Northern Lights 2017 Expansion Project (Project), and would expand the capacity of Northern's market area facilities in Minnesota.

On July 8, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 9, 2016

90-day Federal Authorization Decision Deadline—February 7, 2017

If a schedule change becomes necessary, additional notice will be provided so that the relevant agencies are kept informed of the Project's progress.

Project Description

The proposed Project includes 2 miles of 8-inch-diameter pipeline loop in Sherburne County, Minnesota; 2.8 miles of 12-inch-diameter pipeline loop in Isanti County, Minnesota; as well as an additional 15,900-horsepower compression unit at Northern's existing Faribault Compressor Station in Rice County, Minnesota. The Project would allow Northern to transport an incremental load of approximately 76,000 dekatherms per day.

Background

On April 11, 2016, the Commission issued a Notice of Intent to Prepare an Environmental Assessment for the Planned Northern Lights 2017 Expansion Project and Request for Comments on Environmental Issues (NOI). The NOI was issued during the pre-filing review of the Project in Docket No. PF15-33-000 and was sent to affected landowners; federal, state, and local government agencies; elected officials; environmental and public interest groups; Native American tribes; other interested parties; and local libraries and newspapers. In response to the NOI, the Commission received comments from the Minnesota Department of Natural Resources (MN DNR) and the U.S. Environmental Protection Agency (EPA). The primary issue raised by the MN DNR was a request to describe potential impacts to the Rum River and any associated mitigation measures. The primary issues raised by the EPA were requests to address a range of specific environmental issues of concern in pipeline construction.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-472), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: September 26, 2016.
Kimberly D. Bose,
Secretary.

[FR Doc. 2016-23679 Filed 9-29-16; 8:45 am]

BILLING CODE 6717-01-P